DEPARTMENT OF ENERGY

Federal Energy Regulatory Commission

[Docket No. AD11-6-000]

Priorities for Addressing Risks to the Reliability of the Bulk-Power System; Notice Establishing Date for Comments

On February 8, 2011, the Federal Energy Regulatory Commission convened a Commissioner-led technical conference regarding priorities for addressing risks to the reliability of the Bulk-Power System, as previously announced.¹ Any entity or person wishing to submit written comments regarding the matters discussed at that technical conference should submit such comments in this docket, AD11-6-000, on or before March 21, 2011.

¹ Notice of Technical Conference re Priorities for Addressing Risks to the Reliability of the Bulk-Power System, 76 FR 2369 (January 13, 2011), as supplemented by the Reliability Technical Conference Agenda issued January 7, 2011.

Dated: February 17, 2011.
Kimberly D. Bose,
Secretary.

[FR Doc. 2011-4262 Filed 2-24-11; 8:45 am]

BILLING CODE 6717-01-P